DEPARTMENT OF DEFENSE

Department of the Army

[Docket ID USA-2012-0005]

Privacy Act of 1974; System of Records; Correction

AGENCY: Department of the Army, DoD.

ACTION: Notice to Delete Fifteen Systems of Records; correction.

SUMMARY: On March 7, 2012 (77 FR 13571-13573) DoD published a notice announcing its intent to delete fifteen Department of the Army Privacy Act System of Records Notices. One of the system deletions had an incorrect “Reason” paragraph. This notice provides a corrected “Reason” paragraph for the deletion of A0600-8-104b AHRC, Official Military Personnel Record (August 18, 2004, 69 FR 51271).

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The “Reason” paragraph for the deletion of A0600-8-104b AHRC, Official Military Personnel Record (August 18, 2004, 69 FR 51271) should have identified the Privacy Act Systems of Records Notice that now covers these active records. These records are active and covered under A0600-8-104 AHRC, Military Personnel Records Jacket Files (MPRJ) (January 6, 2004, 69 FR 790).

Correction

In the notice (FR Doc. 2012-5516) published on March 7, 2012 (77 FR 13571-13573), on page 13572, in the third column, for SORN A0600-8-104b AHRC, revise the “Reason” paragraph to read as follows:

Reason:

These records are active and covered under system of records notice A0600-8-104 AHRC, Military Personnel Records Jacket Files (MPRJ) (January 6, 2004, 69 FR 790). Records are transferred to the National Personnel Records Center when the NARA retention has been met.

Dated: March 19, 2012.
Aaron Siegel,
Alternate OSD Federal Register Liaison Officer, Department of Defense.

[FR Doc. 2012-6884 Filed 3-21-12; 8:45 am]

BILLING CODE 5001-06-P